FEDERAL RESERVE SYSTEM

Sunshine Act Meeting

Agency Holding the Meeting: Board of Governors of the Federal Reserve System

Time and Date: At approximately 10:45 a.m., Tuesday, February 18, 2003, following a recess at the conclusion of the open meeting.

Place: Marriner S. Eccles Federal Reserve Board Building, 20th and C Streets, NW., Washington, DC 20551

Status: Closed.

Matters to be Considered:

1. Personnel actions (appointments, promotions, assignments, reassignments, and salary actions) involving individual Federal Reserve System employees.

2. Any items carried forward from a previously announced meeting.

FOR FURTHER INFORMATION CONTACT: Michelle A. Smith, Assistant to the Board; (202) 452-2955.

SUPPLEMENTARY INFORMATION: You may call (202) 452-2955 beginning at approximately 5 p.m. two business days before the meeting for a recorded announcement of bank and bank holding company applications scheduled for the meeting; or you may contact the Board's Web site at http://www.federalreserve.gov for an electronic announcement that not only lists applications, but also indicates procedural and other information about the meeting.

Dated: February 11, 2003.
Robert deV. Frierson,
Deputy Secretary of the Board.

[FR Doc. 03-3808 Filed 2-12-03; 9:19 am]

BILLING CODE 6210-01-P